DEPARTMENT OF COMMERCE

International Trade Administration

[A-570-848]

Notice of Preliminary Results of Antidumping Duty New Shipper Administrative Reviews: Freshwater Crawfish Tail Meat From the People's Republic of China

AGENCY: Import Administration, International Trade Administration, Department of Commerce.

SUMMARY: The Department of Commerce (the Department) is conducting new shipper administrative reviews of the antidumping duty order on freshwater crawfish tail meat from the People's Republic of China (PRC) in response to requests from China Kingdom Import & Export Co., Ltd. (China Kingdom), Weishan Fukang Foodstuffs Co., Ltd. (Weishan Fukang), Nantong Shengfa Frozen Food Co., Ltd. (Nantong Shengfa), and Rizhao Riyuan Marine and Food Products Co., Ltd. (Rizhao Riyuan). The reviews cover the period September 1, 1999 through March 31, 2000.

We preliminarily determine that sales have been made below normal value (NV). The preliminary results are listed below in the section titled “Preliminary Results of Review.” If these preliminary results are adopted in our final results, we will instruct the U.S. Customs Service to assess antidumping duties based on the difference between the export price (EP) or constructed export price (CEP), as applicable, and NV. Interested parties are invited to comment on these preliminary results. (See the “Preliminary Results of Review” section of this notice.)

EFFECTIVE DATE: April 10, 2001.

FOR FURTHER INFORMATION CONTACT: Jacqueline Arrowsmith or Maureen Flannery, Import Administration, International Trade Administration, U.S. Department of Commerce, 14th Street and Constitution Avenue, NW., Washington, DC 20230; telephone: (202) 482-4052 or (202) 482-3020, respectively.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (2000).

Background

The Department published in the Federal Register an antidumping duty order on freshwater crawfish tail meat from the PRC on September 15, 1997 (62 FR 48218). On March 29, 2000 and March 31, 2000, the Department received timely requests for review, in accordance with section 751(a)(2)(B) of the Act and section 351.214(c) of the Department's regulations, from China Kingdom, Weishan Fukang, Nantong Shengfa, and Rizhao Riyuan to conduct a new shipper administrative review of the antidumping duty order on freshwater crawfish tail meat from the PRC. The order has a September anniversary month and a March semiannual anniversary month. These requests were made pursuant to section 751(a)(2)(B) of the Act and section 351.214(b) of the Department's regulations, which state that, if the Department receives a request for review from an exporter or producer of the subject merchandise stating that it did not export the merchandise to the United States during the period covered by the original investigation (the POI) and that such exporter or producer is not affiliated with any exporter or producer who exported the subject merchandise during that period, the Department shall conduct a new shipper review to establish an individual weighted-average dumping margin for such exporter or producer, if the Department has not previously established such a margin for the exporter or producer.

The regulations require that the exporter or producer shall include in its request, with appropriate certifications: (i) The date on which the merchandise was first entered, or withdrawn from warehouse, for consumption, or, if it cannot certify as to the date of first entry, the date on which it first shipped the merchandise for export to the United States, or if the merchandise has not yet been shipped or entered, the date of sale; (ii) a list of the firms with which it is affiliated; (iii) a statement from such exporter or producer, and from each affiliated firm, that it did not, under its current or a former name, export the merchandise during the POI; and (iv) in an antidumping proceeding involving inputs from a non-market-economy (NME) country, a certification that the export activities of such exporter or producer are not controlled by the central government. See 351.214(b)(2) of the Department's Regulations.

The requests received from China Kingdom, Weishan Fukang, Nantong Shengfa, and Rizhao Riyuan were accompanied by information and certifications establishing the effective date on which each company first shipped and entered freshwater crawfish tail meat for consumption in the United States, the volume of each shipment, and the date of first sale to an unaffiliated customer in the United States. Each of these four companies certified that it was not affiliated with any company which exported freshwater crawfish tail meat from the PRC during the POI. In addition, China Kingdom, Weishan Fukang, Nantong Shengfa, and Rizhao Riyuan each certified that its export activities are not controlled by the central government. On June 1, 2000, the Department published its initiation of these new shipper reviews for the period September 1, 1999 through March 31, 2000. See Freshwater Crawfish Tail Meat From the People's Republic of China: Initiation of New-Shipper Antidumping Administrative Reviews, FR 35046 (June 1, 2000).

On July 11, 2000, Rizhao Riyuan withdrew its request for review, in accordance with section 351.214(f)(1) of the Department's regulations. On September 15, 2000, the Department published the rescission of the new shipper review of Rizhao Riyuan. See Freshwater Crawfish Tail Meat From the People's Republic of China: Notice of Partial Rescission of New Shipper Antidumping Duty Review, 65 FR 55940 (September 15, 2000).

On October 30, 2000 the Department published an extension of the deadline for completion of the preliminary results of these new shipper reviews until March 21, 2001. See Notice of Extension of Time Limit for Preliminary Results of New Shipper Antidumping Review: Freshwater Crawfish Tail Meat from the People's Republic of China, 65 FR 64666 (October 30, 2000).

Scope of Reviews

The product covered by these reviews is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS numbers for prepared foodstuffs, indicating peeled crawfish tail meat and other, as introduced by the U.S. Customs Service in mid-year 2000, and HTS items 0306.19.00.10 and 0306.29.00, which are reserved for fish and crustaceans in general. The HTS subheadings are provided for convenience and Customs purposes only. The written description of the scope of this order is dispositive.

Date of Sale for China Kingdom

American Coast Processing Enterprises Corp. (American Processing) made a sale to its customer on February 18, 2000. The material terms of the contract—notably, the price and quantity—were established on this date. American Processing's customer issued a purchase order and American Processing issued an invoice to its customer on this date. The crawfish tail meat arrived at the U.S. port on March 1, 2000, at which time the Food and Drug Administration (FDA) seized this shipment for random inspection. Although the FDA released the crawfish tail meat on March 23, 2000, the FDA's inspection process consumed four cartons of the product.

On March 24, 2000, American Processing reissued its earlier invoice with the original price and quantity. The customer, however, reissued its purchase order showing the reduced total quantity on April 20, 2000. The unit price did not change.

China Kingdom argues that, despite the changed purchase order, the date of sale remains February 18, 2000, because the material terms of the sale did not change.

We agree with China Kingdom that the original purchase order and invoice date best reflects the date of sale on which the exporter established the material terms of sale. See section 351.401(i) of the Department's regulations. The unit price remained the same. Although the total price changed, that was due to circumstances that were beyond the control of both the buyer and the seller; the FDA's inspection, which consumed these four cartons of crawfish tail meat, did not change the material terms of sale. Therefore, we are reviewing China Kingdom's sale in this new shipper review.

Verification

As provided in section 782(i) of the Act, we conducted a verification of the responses of China Kingdom and its affiliated importer in the United States, American Processing; Weishan Fukang; and Nantong Shengfa. We used standard verification procedures, including on-site inspection of the manufacturers' facilities and the examination of relevant sales and financial records. Our verification results are outlined in the public versions of the verification reports, which are on file in the Central Records Unit (room B099 of the Main Commerce Building).

New Shippers

Based on the questionnaire responses received from China Kingdom, Weishan Fukang, and Nantong Shengfa, and our verification thereof, we preliminarily determine that these companies have met the requirements to qualify as new shippers during the period of review (POR). We have determined that they made their first sale or shipment of subject merchandise to the United States during the POR, that these sales were bona fide sales, and that these companies were not affiliated with any exporter or producer that previously shipped to the United States.

At verification, we noted that Anhui Chaohu Daxin Foodstuff Co., Ltd. (Chaohu Daxin), China Kingdom's producer, supplied, from the same production season, other exporters with crawfish for sale to the United States. We considered whether the circumstances were such as to render China Kingdom ineligible for consideration as a new shipper. At verification, we found that Chaohu Daxin did not begin crawfish operations until May 1999 and, therefore, could not have produced or exported crawfish before that date. Since Chaohu Daxin's sales to the other exporters are contemporaneous with its sales to China Kingdom, we preliminarily determine that there are no grounds to dismiss China Kingdom as a new shipper.

We note that Nantong Shengfa assumed the debt and acquired the facilities and all of the equipment of Qidong Baolu Aquatic Products Co., Ltd. (Qidong Baolu), a producer which supplied another exporter during the period of the original investigation. For the final results of this review, we will examine whether the activities of Qidong Baolu and Nantong Shengfa's connection to Qidong Baolu preclude us from determining Nantong Shengfa to be a new shipper.

Separate Rates

China Kingdom, Weishan Fukang, and Nantong Shengfa have requested separate, company-specific rates. In their questionnaire responses, the above companies state that they are independent legal entities. In addition, Weishan Fukang and Nantong Shengfa have both reported that they are PRC-foreign joint ventures.

To establish whether a company operating in an NME country is sufficiently independent to be entitled to a separate rate, the Department analyzes each exporting entity under the test established in Final Determination of Sales at Less Than Fair Value: Sparklers from the People's Republic of China, 56 FR 20588 (May 6, 1991), as amplified by, Final Determination of Sales at Less Than Fair Value: Silicon Carbide from the People's Republic of China, 59 FR 22585 (May 2, 1994). Under this policy, exporters in NMEs are entitled to separate, company-specific margins when they can demonstrate an absence of government control, both in law and in fact, with respect to export activities. Evidence supporting, though not requiring, a finding of de jure absence of government control over export activities includes: (1) An absence of restrictive stipulations associated with an individual exporter's business and export licenses; (2) any legislative enactments decentralizing control of companies; and (3) any other formal measures by the government decentralizing control of companies. De facto absence of government control over exports is based on four factors: (1) Whether each exporter sets its own export prices independently of the government and without the approval of a government authority; (2) whether each exporter retains the proceeds from its sales and makes independent decisions regarding the disposition of profits or financing of losses; (3) whether each exporter has the authority to negotiate and sign contracts and other agreements; and (4) whether each exporter has autonomy from the government regarding the selection of management.

De Jure Control

With respect to the absence of de jure government control over the export activities of all the companies reviewed, evidence on the record indicates that China Kingdom, Weishan Fukang, and Nantong Shengfa are not controlled by the government. All of the above companies submitted evidence of their legal right to set prices independent of all government oversight. The business license of each company indicates that it is permitted to engage in the exportation of crawfish. We find no evidence of de jure government control restricting any of the reviewed companies from the exportation of crawfish. See “Separate Rates Analysis in the New Shipper Reviews of Freshwater Crawfish Tail Meat from the People's Republic of China,” dated March 21, 2001 (Separate Rates Memorandum), which is on file in the Central Records Unit (room B099 of the Main Commerce Building).

No export quotas apply to crawfish. Prior verifications have confirmed that there are no commodity specific export licenses required and no quotas for the seafood category “Other,” which includes crawfish, in China's Tariff and Non-Tariff Handbook for 1996. In addition, we have previously confirmed that crawfish is not on the list of commodities with planned quotas in the 1992 PRC Ministry of Foreign Trade and Economic Cooperation document entitled Temporary Provisions for Administration of Export Commodities. (See Freshwater Crawfish Tail Meat From The People's Republic of China; Preliminary Results of New Shipper Review, 64 FR 8543 (February 22, 1999) and Freshwater Crawfish Tail Meat From the People's Republic of China; Final Results of New Shipper Review, 64 FR 27961 (May 24, 1999) (Ningbo New Shipper Review).)

The following laws, which have been placed on the record of this review, indicate a lack of de jure government control over companies owned by “all the people” and that control over these enterprises has been transferred from the government to the enterprises themselves. The Administrative Regulations of the People's Republic of China for Controlling the Registration of Enterprises as Legal Persons (Legal Persons Law), issued on June 13, 1988 by the State Administration for Industry and Commerce of the PRC and placed on the record of these reviews, provide that, to qualify as legal persons, companies must have the “ability to bear civil liability independently” and the right to control and manage their businesses. These regulations also state that as an independent legal entity, a company is responsible for its own profits and losses. See Notice of Final Determination of Sales at Less Than Fair Value: Manganese Metal from the People's Republic of China, 60 FR 56045 (November 6, 1995) (Manganese Metal). The People's Republic of China All People's Ownership Business Law (Company Law), also on the record of these reviews, states that a foreign company shall bear civil responsibility for the operational activities of its branch organization in China. At verification, we saw that business licenses for China Kingdom, Weishan Fukang, and Nantong Shengfa were granted in accordance with these laws.

Weishan Fukang provided a copy of the Foreign Trade Law, which identifies the rights and responsibilities of business enterprises with foreign investment, grants autonomy to foreign trade operators in management decisions, and establishes the foreign trade operator's accountability for profits and losses. Weishan Fukang and Nantong Shengfa provided The Sino-Foreign Equity Joint Venture Law of the PRC, which grants export rights to Sino-foreign equity joint venture companies without additional approval from a government entity. China Kingdom submitted the Regulations for Transformation of Operational Mechanism of State-Owned Industrial Enterprises, which is designed to motivate state-owned industrial enterprises to enter the market by granting companies the ability to appoint managers, set their own prices, sell their own products, and to make decisions regarding the distribution of profits. Therefore, we preliminarily determine that there is an absence of de jure control over export activity with respect to these firms.

De Facto Control

With respect to the absence of de facto control over export activities, the information provided, and reviewed at verification, indicates that the respective managements of China Kingdom, Weishan Fukang, and Nantong Shengfa are responsible for the determination of export prices, profit distribution, marketing strategy, and contract negotiations. Our analysis indicates that there is no government involvement in the daily operations or the selection of management for any of these companies. In addition, we have found that these respondents' pricing and export strategy decisions are not subject to any outside entity's review or approval, and that there are no governmental policy directives that affect these decisions.

There are no restrictions on the use of export earnings. Each company's general manager has the right to negotiate and enter into contracts, and may delegate this authority to employees within the company. There is no evidence that this authority is subject any level of governmental approval. Each company has stated that its management is selected by its board of directors and/or its employees and that there is no government involvement in the selection process. Lastly, decisions made by respondents concerning purchases of subject merchandise from other suppliers are not subject to government approval. For more information, see Separate Rates Memorandum. Consequently, because evidence on the record indicates an absence of government control, both in law and in fact, over their export activities, we preliminarily determine that separate rates should be applied to these exporters. For further discussion of the Department's preliminary determination that separate rates should be applied to these exporters, see Separate Rates Memorandum.

Normal Value Comparisons

To determine whether respondents' sales of the subject merchandise to the United States were made at prices below NV, we compared their United States prices to NV, as described in the “United States Price” and “Normal Value” sections of this notice.

United States Price

For China Kingdom, we based United States price on CEP in accordance with section 772(b) of the Act, because the first sales to unaffiliated purchasers were made after importation. We calculated CEP based on packed prices from the affiliated importer to the first unaffiliated purchaser in the United States. We made the following deductions from the starting price (gross unit price), where applicable: foreign inland freight, international (ocean) freight, foreign and U.S. brokerage and handling expenses, the affiliated purchaser's U.S. credit expenses, the affiliated purchaser's indirect selling expenses, and CEP profit. See sections 772(c) and (d) of the Act. We valued foreign inland freight and foreign brokerage and handling using surrogate values since they were incurred in an NME country.

Because U.S. brokerage and handling expenses, credit expenses, and CEP profit are market-economy costs incurred in U.S. dollars, we used actual costs rather than surrogate values for these deductions to gross unit price. Because American Processing reported indirect selling expenses that only consisted of phone charges, but did not reflect other costs incurred, we used the facts otherwise available to determine American Processing's indirect selling expenses, in accordance with section 776(a) of the Act and section 351.308 of the Department's regulations. As partial facts available we used American Processing's general ledger to derive a more accurate expense. In addition, at verification, American Processing was unable to support its reported credit expense. We compared the interest rate American Processing used to derive its reported credit expense to the weighted average interest rate reported for the relevant period by the Federal Reserve Bank on all commercial and industrial loans maturing between one month and one year in accordance with Policy Bulletin 98.2. We found the interest rate reported by American Processing to be higher. Therefore, as partial facts available, we have calculated American Processing's credit expense using the actual interest rate it reported to the Department. See “Memorandum to the File from Jacqueline Arrowsmith; Analysis for the Preliminary Results of the New Shipper Review for China Kingdom,” dated March 21, 2001.

For Weishan Fukang and Nantong Shengfa, we based United States price on EP in accordance with section 772(a) of the Act, because the first sales to unaffiliated purchasers were made prior to importation, and CEP was not otherwise warranted by the facts on the record. We calculated EP based on packed prices from the exporter to the first unaffiliated purchaser in the United States. We deducted foreign inland freight, brokerage and handling expenses, and international freight from an NME carrier, where applicable, from the starting price (gross unit price) in accordance with section 772(c) of the Act.

Normal Value

Section 773(c)(1) of the Act provides that the Department shall determine NV using a factors-of-production methodology if (1) the merchandise is exported from an NME country, and (2) available information does not permit the calculation of NV using home-market prices, third-country prices, or constructed value under section 773(a) of the Act.

In every case conducted by the Department involving the PRC, the PRC has been treated as an NME country. Pursuant to section 771(18)(C)(i) of the Act, any determination that a foreign country is an NME country shall remain in effect until revoked by the administering authority. None of the companies contested such treatment in these reviews. Accordingly, we have applied surrogate values to the factors of production to determine NV.

We calculated NV based on factors of production in accordance with section 773(c)(4) of the Act and section 351.408(c) of our regulations. Consistent with the original investigation and the first administrative review of this order, we determined that India (1) is comparable to the PRC in level of economic development, and (2) is a significant producer of comparable merchandise. With the exception of the crawfish input, we valued the factors of production using publicly available information from India. In the original investigation of sales at less than fair value (LTFV) and in previous reviews of this order, for the crawfish input, we used Spanish import statistics for crawfish imported from Portugal. However, Spanish imports from Portugal have declined drastically. From April 1999 through March 2000, the production period corresponding to the current review, Spanish imports from Portugal were only 17 metric tons, in contrast to the 357 metric tons used during the investigation, and 160 metric tons used during the 1997-98 administrative review. This represents a decline of 95.2 percent since the period of the LTFV investigation. In addition, unlike in other years, Spanish imports from Portugal were heavily weighted towards one month. This one month accounted for 71% of the total volume of imports from Portugal for that year. Small import volumes as a whole, and one month accounting for the vast proportion of imports, seems to indicate that crawfish is no longer a product that is regularly traded between Portugal and Spain. Therefore, we looked for data reflecting a more substantial volume of trade. For these preliminary results, we have used Spanish export statistics for exports of crawfish to the European Union (EU). For further discussion, see “Memorandum from The Crawfish Team, Freshwater Crawfish Tail Meat from the People's Republic of China: Factor Values Memorandum,” dated March 21, 2001 (Factor Values Memo). We used Indian import prices to value many factors. As appropriate, we adjusted import prices by adding freight expenses to make them delivered prices.

Because Nantong Shengfa was unable to support its reported electricity, water, and direct labor usage rates at verification, we are using partial facts available for these factors, in accordance with section 776(a) of the Act and section 351.308 of the Department's regulations. For electricity and direct labor, we are using the higher of what was reported or what we found at verification. For electricity, we are using the amount calculated at verification. For direct labor, we are using the amount reported as partial facts available. See “Verification Report of Sales and Factors for Nantong Shengfa Frozen Foods Co., Ltd.,” dated March 21, 2001. Because we were unable to calculate an amount for water at verification, for water we are using an average of the water factors from the other respondents' data. See “Memorandum to the File from Jacqueline Arrowsmith; Analysis for the Preliminary Results of the New Shipper Review for Nantong Shengfa,” dated March 21, 2000. In addition, we found at verification that Nantong Shengfa had reported incorrectly the distance between the factory and its plastic bag supplier. As partial facts available, we used the reported amount, which was greater than the amount found at verification.

We valued the factors of production as follows:

• To value whole crawfish, we used the Spanish export price for fresh (not frozen) crawfish exported to the EU. In order to factor out seasonal fluctuations in the price of the Spanish export data, we valued whole crawfish using an average of monthly data from the POR. For further details, see Factors Value Memorandum.

• To value the by-product of shells, we used a September 1999 free-on-board (FOB) factory price quote for crab and shrimp shells from a Canadian seller of crustacean shells. For further details, see Factors Value Memorandum.

• To value coal and electricity, we used data reported as the average Indian domestic prices within the categories of “Steam Coal for Industry” and “Electricity for Industry,” published in the International Energy Agency's publication, Energy Prices and Taxes, First Quarter, 2000. We adjusted the cost of coal to include an amount for transportation. For water, we relied upon public information from the October 1997 Second Water Utilities Data Book: Asian and Pacific Region, published by the Asian Development Bank.

To achieve comparability of energy and water prices to the factors reported for the crawfish processing periods applicable to the companies under review, we adjusted these factor values to reflect inflation to the applicable crawfish processing season using the Wholesale Price Index (WPI) for India, as published in the 2000 and 2001 International Financial Statistics (IFS) by the International Monetary Fund (IMF).

• To value packing materials (plastic bags, cardboard boxes and adhesive tape), we relied upon Indian import data from the April 1998 through March 1999 issues of Monthly Statistics of the Foreign Trade of India (Monthly Statistics). We adjusted these prices to reflect inflation to the applicable crawfish processing season. We adjusted the values of packing materials to include freight costs incurred between the supplier and the factory. For transportation distances used in the calculation of freight expenses on packing materials, we added, to surrogate values from India, a surrogate freight cost using the shorter of (a) the distances between the closest PRC port and the factory, or (b) the distance between the domestic supplier and the factory. See Notice of Final Determination of Sales at Less Than Fair Value: Collated Roofing Nails From the People's Republic of China, 62 FR 51410 (October 1, 1997) (Roofing Nails).

• To value factory overhead, selling, general, and administrative expenses (SG&A), and profit, we calculated simple average rates using publicly available financial statements of four Indian seafood processing companies, and applied these rates to the calculated cost of manufacture. See Factor Values Memorandum.

• For labor, we used the PRC regression-based wage rate at Import Administration's home page, Import Library, Expected Wages of Selected NME Countries, revised in May 2000. See http://ia.ita.doc.gov/wages/. Because of the variability of wage rates in countries with similar per capita gross domestic products, section 351.408(c)(3) of the Department's regulations requires the use of a regression-based wage rate. The source of these wage rate data on the Import Administration's Web site is the 1998 Year Book of Labour Statistics, International Labour Office (Geneva: 1998), Chapter 5: Wages in Manufacturing.

• We valued movement expenses as follows:

To value truck freight expenses we used seventeen price quotes from six different Indian trucking companies which were used in the antidumping investigation of Bulk Aspirin from the People's Republic of China, 65 FR 33805 (May 25, 2000). We adjusted the rates to reflect inflation through the POR using the WPI for India from the IFS.

To value brokerage and handling in the home market, we used information reported in the antidumping administrative review of Certain Stainless Steel Wire Rod From India; Preliminary Results of Antidumping Duty Administrative and New Shipper Reviews, 63 FR 48184 (September 9, 1998) (Stainless Steel Wire Rod from India), and also used in the Freshwater Crawfish Tail Meat From the People's Republic of China: Final Results of Administrative Antidumping Duty and New Shipper Reviews, and Final Rescission of New Shipper Review, 65 FR 20948 (April 19, 2000). We adjusted the rates to reflect inflation through the POR using the WPI for India from the IFS.

We used the average of the foreign brokerage and handling expenses reported in the U.S. sales listing of the public questionnaire response submitted in the antidumping review of Viraj Group, Ltd. in Stainless Steel Wire Rod from India. Charges were reported on a per metric ton basis. We adjusted these values to reflect inflation through the POR using the WPI for India from the IFS. For further discussion, see Factor Values Memorandum.

To value ocean freight, we obtained publicly available price quotes from Maersk Sealand for shipping frozen crawfish tail meat from various PRC ports to various ports in the United States. See Factor Values Memorandum. We adjusted these rates to reflect deflation to the POR, where appropriate, using the WPI for India from the IFS.

Currency Conversion

We made currency conversions pursuant to section 351.415 of the Department's regulations at the rates certified by the Federal Reserve Bank. (See Http://ia.ita.doc.gov/exchange/index. html).

Preliminary Results of Review

We preliminarily determine that the following dumping margins exist:

Manufacturer/exporter | Time period | Margin (percent)
China Kingdom | 9/1/99-3/31/00 | 7.55
Weishan Fukang | 9/1/99-3/31/00 | 0.00
Nantong Shengfa | 9/1/99-3/31/00 | 0.00

Any interested party may request a hearing within 30 days of publication of this notice in accordance with section 351.310(c) of the Department's regulations. Any hearing would normally be held 37 days after the publication of this notice, or the first workday thereafter, at the U.S. Department of Commerce, 14th Street and Constitution Avenue N.W., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; and (3) to the extent practicable, an identification of the arguments to be raised at the hearing. Unless otherwise notified by the Department, interested parties may submit case briefs within 30 days of the date of publication of this notice in accordance with 351.309(c)(2) of the Department's regulations. As part of the case brief, parties are encouraged to provide a summary of the arguments not to exceed five pages and a table of statutes, regulations, and cases cited. Rebuttal briefs, which must be limited to issues raised in the case briefs, must be filed within five days after the case brief is filed. If a hearing is held, an interested party may make an affirmative presentation only on arguments included in that party's case brief and may make a rebuttal presentation only on arguments included in that party's rebuttal brief. Parties should confirm by telephone the time, date, and place of the hearing 48 hours before the scheduled time.

The Department will issue the final results of these new shipper reviews, which will include the results of its analysis of issues raised in the briefs, within 90 days from the date of these preliminary results, unless the time limit is extended.

Upon completion of these new shipper reviews, the Department shall determine, and the U.S. Customs Service shall assess, antidumping duties on all appropriate entries. The Department will issue appraisement instructions directly to the U.S. Customs Service upon completion of this review. For assessment purposes, we intend to calculate importer-specific assessment rates for freshwater crawfish tail meat from the PRC. For both EP and CEP sales, we will divide the total dumping margins (calculated as the difference between NV and EP (or CEP)) for each importer by the entered value of the merchandise. Upon the completion of this review, we will direct Customs to assess the resulting ad valorem rates against the entered value of each entry of the subject merchandise by the importer during the POR.

Furthermore, the following deposit rates will be effective upon publication of the final results of this administrative review for all shipments of freshwater crawfish tail meat from the PRC entered, or withdrawn from warehouse, for consumption on or after the publication date, as provided for by section 751(a)(2)(C) of the Act: (1) The cash deposit rate for the reviewed firms will be the rates established in the final results of these reviews; (2) for previously-reviewed PRC and non-PRC exporters with separate rates, the cash deposit rate will be the company-specific rate established for the most recent period; (3) for all other PRC exporters, the rate will be the PRC-wide rate, which is currently 201.63 percent; and (4) for all other non-PRC exporters of subject merchandise from the PRC, the cash deposit rate will be the rate applicable to the PRC supplier of that exporter.

This notice also serves as a preliminary reminder to importers of their responsibility under 351.402(f) of the Department's regulations to file a certificate regarding the reimbursement of antidumping duties prior to liquidation of the relevant entries during this review period. Failure to comply with this requirement could result in the Secretary's presumption that reimbursement of antidumping duties occurred and the subsequent assessment of double antidumping duties.

These new shipper reviews and this notice are published in accordance with sections 751(a)(1) and 777 (i)(1) of the Act. Effective January 20, 2001, Bernard T. Carreau is fulfilling the duties of the Assistant Secretary for Import Administration.

Dated: March 21, 2001.
Bernard T. Carreau,
Deputy Assistant Secretary, Import Administration.

[FR Doc. 01-8819 Filed 4-9-01; 8:45 am]

BILLING CODE 3510-DS-P